NUCLEAR REGULATORY COMMISSION

[NRC-2022-0204]

Relocation of Draft and Regulatory Guide Notices in the Federal Register

AGENCY: Nuclear Regulatory Commission.

ACTION: Categorization of notice.

SUMMARY: The U.S. Nuclear Regulatory Commission (NRC) is notifying the public that documents regarding draft and final Regulatory Guides that historically have been published in the “Notices” section of the Federal Register will now be published in the “Proposed Rules” and “Rules and Regulations” sections of the Federal Register. The Office of the Federal Register recently informed the NRC that under their guidelines, these documents fall into the “Proposed Rules” and “Rules and Regulations” categories and requested that the NRC reclassify these notices.

ADDRESSES: Please refer to Docket ID NRC-2022-0204 when contacting the NRC about the availability of information regarding this document. You may obtain publicly available information related to this document using any of the following methods:

• Federal Rulemaking Website: Go to https:// www.regulations.gov and search for Docket ID NRC-2022-0204. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time, Monday through Friday, except Federal holidays.

FOR FURTHER INFORMATION CONTACT: Stacy Schuman, Office of the General Counsel, U.S. Nuclear Regulatory Commission, Washington, DC 20555-0001, telephone: 301-415-0624; email: Stacy.Schumann@nrc.gov.

SUPPLEMENTARY INFORMATION: The NRC issues Draft Guides (DGs) and Regulatory Guides (RGs) to gather input and provide guidance to licensees and applicants on implementing specific parts of the NRC's regulations, techniques used by NRC staff in evaluating specific problems or postulated accidents, and data needed by the staff in its review of applications for permits or licenses, as noted in chapter I of Title 10 of the Code of Federal Regulations (CFR). DGs and RGs historically have been published in the “Notices” section of the Federal Register.

Under the Federal Register Act (44 U.S.C. chapter 15), the Administrative Committee of the Federal Register issues regulations regarding publishing documents in the Federal Register (see 1 CFR 1). Based on these governing regulations, the Office of the Federal Register (OFR) classifies agency documents published in the Federal Register in one of three categories: rules and regulations, proposed rules, and notices. The regulation establishing document types is available in 1 CFR 5.9.

In accordance with the OFR's request that the NRC reclassify DGs and RGs, these documents will henceforth be published in the “Proposed Rules” or “Rules and Regulations” section of the Federal Register. This change is effective immediately.

Dated: December 5, 2022.
For the Nuclear Regulatory Commission.
Cindy K. Bladey,
Federal Register Liaison Officer, Office of Nuclear Material Safety and Safeguards.

[FR Doc. 2022-26743 Filed 12-8-22; 8:45 am]

BILLING CODE 7590-01-P